DEPARTMENT OF AGRICULTURE

Forest Service

Trinity County Resources Advisory Committee (RAC)

AGENCY: Forest Service, USDA Forest Service.

ACTION: Notice of meeting.

SUMMARY: The Trinity County Resource Advisory Committee (RAC) will meet on November 26 and December 17, 2001 in Weaverville, California. The purpose of the meeting is to discuss the selection of Title II projects under Public Law 106-393, H.R. 2389, the Secure Rural Schools and Community Self-Determination Act of 2000, also called the “Payments to States” Act.

DATES: The meeting will be held on November 26 and December 17, 2001 from 6:30 to 8:30 p.m.

ADDRESSES: The November 26th meeting will be held at the Trinity County P.U.D., 26 Ponderosa Lane, Weaverville, CA. The December 17th meeting will be held in the conference room of the Trinity County Superintendent of Schools Office, 201 Memorial Drive, Weaverville, CA.

FOR FURTHER INFORMATION CONTACT: Duane Lyon, Committee Coordinator, USDA, Shasta Trinity National Forests, 2400 Washington Ave., Redding, CA 96001. Phone (530) 242 2207. Email: dlyon@fs.fed.us.

SUPPLEMENTARY INFORMATION: The November 26th meeting of the committee will focus on orienting the committee members to the Federal Advisory Committee Act (FACA) regulations and the RAC Charter. The December 17th meeting will focus on development of committee operating norms. The meetings are open to the public. Public input opportunity will be provided at each meeting and individuals will have the opportunity to address the committee at that time.

Dated: November 16, 2001.
Sharon Heywood,
Forest Supervisor.

[FR Doc. 01-29302 Filed 11-23-01; 8:45 am]

BILLING CODE 3410-11-M